DEPARTMENT OF TRANSPORTATION

Federal Aviation Administration

Office of Commercial Space Transportation; Notice of Extension of Comment Period for the Draft Environmental Impact Statement for the SpaceX Texas Launch Site

AGENCY: DOT, Federal Aviation Administration (FAA), lead Federal agency; and National Aeronautics and Space Administration, National Park Service, U.S. Army White Sands Missile Range, U.S. Army Corps of Engineers, cooperating agencies.

ACTION: Notice of extension of comment period.

SUMMARY: A Notice of Availability (NOA) for the FAA's Draft Environmental Impact Statement for the SpaceX Texas Launch Site (Draft EIS) was published in the Federal Register by the U.S. Environmental Protection Agency (EPA) on April 19, 2013 (78 FR 23558). The FAA also published an NOA of the Draft EIS in the Federal Register on the same day (78 FR 23629). The comment period for the Draft EIS was to end on June 3, 2013 (45 days after publication of the proposal in the Federal Register). This notice extends the comment period to June 24, 2013 to allow the public additional time to comment on the Draft EIS.

DATES: Written comments must be received on or before June 24, 2013.

ADDRESSES: Please submit comments or questions regarding the Draft EIS to Ms. Stacey M. Zee, FAA Environmental Specialist, SpaceX EIS c/o Cardno TEC Inc., 275 West Street, Suite 110, Annapolis, MD 21401. Comments may also be submitted via email to faaspacexeis@cardnotec.com or by fax to (410) 990-0455.

Additional Information

On April 19, 2013, the FAA published a Notice of Availability of the Draft EIS in the Federal Register and requested comments. See 78 FR 23629. The comment period for the Draft EIS was originally scheduled to close on June 3, 2013. The EPA requested a comment period extension, changing the deadline for submitting comments on the Draft EIS to June 24, 2013.

An electronic version of the Draft EIS is available on the FAA Web site: http://www.faa.gov/about/office_org/headquarters_offices/ast/environmental/nepa_docs/review/documents_progress/spacex_texas_launch_site_environmental_impact_statement/. Additionally, a paper copy and an electronic version of the Draft EIS may be reviewed during regular business hours at the following Brownsville, Texas locations:

• Brownsville Public Library, 2600 Central Blvd.

• Southmost Branch Library, 4320 Southmost Blvd.

• University of Texas at Brownsville, Oliveira Library, 80 Fort Brown St.

FOR FURTHER INFORMATION CONTACT: Ms. Stacey M. Zee, Environmental Protection Specialist, Federal Aviation Administration, 800 Independence Avenue SW., Suite 325, Washington, DC 20591; email Stacey.Zee@faa.gov; or phone (202) 267-9305.

Issued in Washington, DC on: May 30, 2013.
Daniel Murray,
Acting Manager, Space Transportation Development Division.

[FR Doc. 2013-13814 Filed 6-10-13; 8:45 am]

BILLING CODE 4910-13-P